DEPARTMENT OF COMMERCE

Economic Development Administration

Notice of Petitions by Firms for Determination of Eligibility To Apply for Trade Adjustment Assistance

AGENCY: Economic Development Administration, Department of Commerce.

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 2/23/2010 Through 2/26/2010
Firm | Address | Date accepted for filing | Products
Benchmark Sales Agency, Inc. d/b/a Custom Windows | 2727 South Santa Fe Drive, Englewood, CO 80110 | 2/23/2010 | The company designs and manufactures custom aluminum extruded windows.
Quality Mould, Inc. | 110 Dill Lane, Latrobe, PA 15650 | 2/23/2010 | Moulds for the glass industry and machines metal parts for the defense, energy and mining industries.
A Forbes Company, Inc. | 1035 Harper Avenue, SW., Lenoir, NC 28645 | 2/24/2010 | The firm produces commercial lithographic printing. Materials include ink and paper.
Midland Marble & Granite, LLC | 2077 NE Rice Road, Lee's Summit, MO 64064 | 2/25/2010 | Marble and granite countertops, ceramic tile floors and walls. Carpet, vinyl and wood.
R.E. Hansen Industries, Inc. | 22 Research Way, East Setauket, NY 11733 | 2/25/2010 | Thru-wall air conditioners and accessories.
The Flinchbaugh Company, Inc. | 245 Beshore School Road, Manchester, PA 17345 | 2/25/2010 | Quality machined parts such as off-road heavy duty equipment and truck parts, and performs job shop services to the U.S. military and many leading private manufacturers.
Ascension Industries, Inc. | 1254 Erie Avenue, North, NY 14120 | 2/26/2010 | Ascension's industrial filtration product line consists of 3 primary products, filter presses, tube filters and pressure leaf filters.
Colorado Case, Inc. | 1713 E Lincoln Ave., Fort Collins, CO 80524 | 2/26/2010 | The company manufactures cases, case covers, and straps for musical instruments.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in section 315.9 of EDA's final rule (71 FR 56704) for procedures for requesting a public hearing. The Catalog of Federal Domestic Assistance official program number and title of the program under which these petitions are submitted is 11.313, Trade Adjustment Assistance.

Dated: February 26, 2010.
Bryan Borlik,
Program Director.

[FR Doc. 2010-4507 Filed 3-3-10; 8:45 am]

BILLING CODE 3510-24-P